DEPARTMENT OF DEFENSE

Office of the Secretary

[No. DoD-2007-OS-0055]

Proposed Collection; Comment Request

AGENCY: Office of the Under Secretary of Defense (Personnel and Readiness), DoD.

ACTION: Notice.

Pursuant to 44 U.S.C. 3506(c)(2)(A) (the Paperwork Reduction Act of 1995, 44 U.S.C. 3501 et seq.) the Office of the Under Secretary of Defense (Personnel and Readiness) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by July 31, 2007.

ADDRESSES: You may submit comments, identified by docket number and title, by any of the following methods:

• Federal eRulemaking Portal: http://www.regulations.gov. Follow the instructions for submitting comments.

• Mail: Federal Docket Management System Office, 1160 Defense Pentagon, Washington, DC 20311-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) (Military Community and Family Policy), ATTN: Mr. James M. Ellis), 4000 Defense Pentagon, Washington, DC 20301-4000 or call at (703) 602-5009).

Title, Associated Form, and OMB Control Number: Application for Discharge of Member or Survivor of Member of Group Certified to Have Performed Active Duty with the Armed Forces of the United States, DD Form 2168, OMB Control Number 0704-0100.

Needs and Uses: This information collection requirement is necessary to implement section 401 of Public Law 95-202 (codified at 38 U.S.C. 106 Note), which directs the Secretary of Defense: (1) To determine if civilian employment or contractual service rendered to the Armed Forces of the United States by certain groups shall be considered Active Duty service, and (2) to award members of approved groups an appropriate certificate where the nature and duration of service so merits. This information is collected on DD Form 2168, “Application for Discharge of Member of Group Certified to have Performed Active Duty with the Armed Forces of the United States,” which provides the necessary data to assist each of the Military Departments in determining if an applicant was a member of a group which has performed active military service. Those individuals who have been recognized as members of an approved group shall be eligible for benefits administered by the Veteran's Administration.

Affected Public: Individuals or households.

Annual Burden Hours: 1,350 hours.

Number of Respondents: 2,700.

Responses Per Respondent: 1.

Average Burden Per Response: .5 hours.

Frequency: On occasion.

SUPPLEMENTARY INFORMATION:

Summary of Information Collection

Section 401 of Public Law 95-202 (codified at 38 U.S.C. 106 Note) authorized the Secretary of Defense: (1) To determine if civilian employment or contractural service rendered to the Armed Forces of the United States by certain groups shall be considered active duty service, and (2) to issue members of approved groups an appropriate certificate of service where the nature and duration of service so warrants. Such persons shall be eligible for benefits administered by the Department of Veterans Affairs. The information collected on DD Form 2168, “Application for Discharge of Member or Survivor of Member Group Certified To Have Performed Duty with the Armed Forces of the United States,” is necessary to assist the Secretaries of the Military Departments in: (1) Determining if an applicant was a member of an approved group that performed civilian employment or contractural service for the U.S. Armed Forces and (2) to assist in issuing an appropriate certificate of service to the applicant. Information provided by the applicant will include: The name of the group served with; dates and place of service; highest grade/rank/rating held during service; highest pay grade; military installation where ordered to report; specialty/job title(s). If the information requested on a DD Form 2168 is compatible with that of a corresponding approved group, and the applicant can provide supporting evidence, he or she will receive veteran's status in accordance with the provisions of DoD Directive 1000.20. Information from the DD Form 2168 will be extracted and used to complete the DD Form 214, “Certificate for Release or Discharge from Active Duty.”

Dated: May 21, 2007.
Patricia L. Toppings,
Alternate OSD Federal Register Liaison Officer, Department of Defense.

[FR Doc. 07-2707 Filed 5-31-07; 8:45 am]

BILLING CODE 5001-06-M